ENVIRONMENTAL PROTECTION AGENCY

[FRL-6575-1]

Office of Research and Development; Board of Scientific Counselors Request for Suggestion of Candidates

AGENCY: Environmental Protection Agency (EPA).

ACTION: Notice; request for suggestions of candidates.

SUMMARY: Pursuant to the Federal Advisory Committee Act, Public Law 92-463, as amended (5 U.S.C., App. 2), EPA, Office of Research and Development (ORD) is requesting suggestions for candidates for membership on the Board of Scientific Counselors.

The Board of Scientific Counselors (BOSC), is in its second charter renewal process, and once renewed will provide advice and recommendations to the EPA on the operation of ORD's research program. As stated in the Charter, BOSC's primary functions are to: (a) evaluate science and engineering research programs, laboratories, and research-management practices of ORD and recommend actions to improve their quality and/or strengthen their relevance to the mission of the EPA; and (b) evaluate and provide advice concerning the utilization of peer review within ORD to sustain and enhance the quality of science in EPA.

The membership of the BOSC will include a balanced representation of interested persons with professional and personal qualifications and experience to contribute to the functions of the BOSC and may be drawn from business and industry, the academia, environmental organizations and other related organizations. Committee members are appointed for terms of one to four years by the EPA Deputy Administrator.

ADDRESSES: Submit suggestions for the list of candidates to: Shirley R. Hamilton, Designated Federal Officer, Board of Scientific Counselors, Environmental Protection Agency (8701R), 1200 Pennsylvania Ave., NW, Washington, DC 20460.

FOR FURTHER INFORMATION CONTACT: Shirley R. Hamilton at the above address or at (202) 564-6853. The Agency will not formally acknowledge or respond to suggestions.

SUPPLEMENTARY INFORMATION: Submit suggestions of candidates no later than May 5, 2000. Any interested person or organization may submit names of qualified persons. Suggestions for the list of candidates should be identified by name, occupation, organization, position, address and telephone number, and if available, email address. Candidates will be asked to submit a resume of their background, experience and qualifications and other relevant information as a part of the consideration process.

Dated: April 4, 2000.
Norine E. Noonan,
Assistant Administrator, for Research and Development.

[FR Doc. 00-8710 Filed 4-7-00; 8:45 am]

BILLING CODE 6560-50-P